SECURITIES AND EXCHANGE COMMISSION

[File No. 500-1]

In the Matter of CMKM Diamonds, Inc., a/k/a Casavant Mining Kimberlite International, Inc.; Order of Suspension of Trading

March 3, 2005.

It appears to the Securities and Exchange Commission that there is a lack of current and accurate information concerning the securities of CMKM Diamonds, Inc. (“CMKM Diamonds”) (Pink Sheets symbol “CMKX”), a Nevada corporation also known as Casavant Mining Kimberlite International, Inc. Questions have been raised about the adequacy of publicly available information concerning, among other things, CMKM Diamonds' assets and liabilities, mining and other business activities, share structure and stock issuances, and corporate management. Since the fiscal year ending December 31, 2002, CMKM Diamonds has been delinquent in its periodic filing obligations under Section 13(a) of the Securities Exchange Act of 1934. The Commission is concerned that CMKM Diamonds may have unjustifiably relied on a Form S-8 to issue unrestricted securities. The Commission is also concerned that CMKM Diamonds and/or certain of its shareholders may have unjustifiably relied on Rule 144(k) of the Securities Act of 1933 (“Securities Act”) in conducting an unlawful distribution of its securities that failed to comply with the resale restrictions of Rules 144 and 145 of the Securities Act.

The Commission is of the opinion that the public interest and the protection of investors require a suspension of trading in the securities of the above-listed company.

Therefore, it is ordered, pursuant to Section 12(k) of the Securities Exchange Act of 1934, that trading in the above listed company is suspended for the period from 9:30 a.m. E.S.T., March 3, 2005, through 11:59 p.m. E.S.T., on March 16, 2005.

By the Commission.
Jonathan G. Katz,
Secretary.

[FR Doc. 05-4446 Filed 3-3-05; 11:54 am]

BILLING CODE 8010-01-P